POSTAL REGULATORY COMMISSION

[Docket Nos. MC2011-16 and CP2011-53; Order No. 690]

Change in Postal Prices

AGENCY: Postal Regulatory Commission.

ACTION: Notice.

SUMMARY: The Commission is noticing a recently-filed Postal Service request for a change in prices to Parcel Select Contract 1. This notice addresses procedural steps associated with this filing.

DATES: Comments are due: March 11, 2011.

ADDRESSES: Submit comments electronically by accessing the “Filing Online” link in the banner at the top of the Commission's Web site (http://www.prc.gov) or by directly accessing the Commission's Filing Online system at https://www.prc.gov/prc-pages/filing-online/login.aspx. Commenters who cannot submit their views electronically should contact the person identified in the FOR FURTHER INFORMATION CONTACT section as the source for case-related information for advice on alternatives to electronic filing.

FOR FURTHER INFORMATION CONTACT: Stephen L. Sharfman, General Counsel, at 202-789-6820 (case-related information) or DocketAdmins@prc.gov (electronic filing assistance).

SUPPLEMENTARY INFORMATION:

Table of Contents

I. Introduction

II. Notice of Filings

III. Ordering Paragraphs

I. Introduction

On March 1, 2011, the Commission approved the Postal Service's request to add Parcel Select Contract 1 to the competitive product list.¹ Parcel Select Contract 1 is an agreement between the Postal Service and StartSampling, Inc. (StartSampling) to license and distribute the “Sample Showcase” box.² The Sample Showcase box is a Postal Service-branded parcel box designed to contain product samples and other advertising material from companies who wish to advertise their goods and services. Id. Attachment B at 1.

¹ Order No. 686, Order Approving Parcel Select Contract 1 Negotiated Service Agreement, March 1, 2011.

² Request of the United States Postal Service to Add Parcel Select Contract 1 to Competitive Product List and Notice of Filing (Under Seal) of Contract and Supporting Data, December 23, 2010, at 1.

On March 3, 2011, the Postal Service filed notice of a change in prices to Parcel Select Contract 1, which amends the terms of the agreement.³ The Notice includes four attachments:

³ Notice of United States Postal Service of Change in Prices Pursuant to Amendment to Parcel Select Contract 1, March 3, 2011 (Notice).

• Attachment A—a redacted version of Governors' Decision No. 11-3, certification of the Governors' vote, and an analysis of the amendment; ⁴

⁴ Decision of the Governors of the United States Postal Service on Establishment of Rate and Class Not of General Applicability for Parcel Select Service (Governors' Decision No. 11-3), February 28, 2011.

• Attachment B—a redacted version of the Addendum to Licensing and Shipping Services Agreement Between the United States Postal Service and StartSampling Regarding Sample Showcase (Addendum);

• Attachment C—a certified statement of compliance with 39 U.S.C. 3633(a); and

• Attachment D—an application for non-public treatment of materials filed under seal.

The Postal Service included a redacted version of the supporting financial documentation as separate Excel files. The Postal Service filed the unredacted Governors' Decision No. 11-3, Addendum, and supporting financial documentation under seal. Id. at 1-2.

Substantively, the Notice seeks approval of the Addendum, which establishes an alternative per-piece charge for Sample Showcase boxes that comply with certain weight and revenue restrictions. The alternative per-piece charge equals the applicable published postage rate and the costs to the Postal Service of procuring the Sample Showcase box. Id. Attachment B at 1. StartSampling will pay the Postal Service based on the revenue it derives from companies for placing product samples or other advertising material in the box. For each box mailed at the alternative per-piece charge, the Postal Service will receive a portion of that revenue exceeding StartSampling's costs in mailing the box. Id. Attachment B at 2.

The Addendum also enables StartSampling to mail certain Sample Showcase boxes previously prohibited under the agreement as long as those boxes meet specific content restrictions. The Postal Service states that the Addendum will become effective the day the Commission completes its review of the Notice. Id. at 1.

II. Notice of Filings

The Commission reopens Docket Nos. MC2011-16 and CP2011-53 to consider the issues raised by the Notice. Interested persons may submit comments on whether the Notice is consistent with the policies of 39 U.S.C. 3632, 3633, or 3642, as well as 39 CFR part 3015. Comments are due no later than March 11, 2011. The public portions of these filings can be accessed via the Commission's Web site (http://www.prc.gov).

The Commission appoints John P. Klingenberg to serve as Public Representative in this proceeding.

III. Ordering Paragraphs

It is ordered:

1. The Commission reopens Docket Nos. MC2011-16 and CP2011-53 to consider the matters raised by the Notice.

2. Pursuant to 39 U.S.C. 505, John P. Klingenberg is appointed to serve as officer of the Commission (Public Representative) to represent the interests of the general public for this aspect of these dockets.

3. Comments by interested persons in these proceedings are due no later than March 11, 2011.

4. The Secretary shall arrange for publication of this notice and order in the Federal Register.

By the Commission.
Shoshana M. Grove,
Secretary.

[FR Doc. 2011-5409 Filed 3-9-11; 8:45 am]

BILLING CODE 7710-FW-P